DEPARTMENT OF JUSTICE

Notice of Lodging of Proposed Consent Decree Under the Comprehensive Environmental Response, Compensation, and Liability Act

On April 11, 2024, the Department of Justice lodged a proposed consent decree with the United States District Court for the District of New Jersey in the lawsuit entitled United States, New Jersey Department of Environmental Protection, the Commissioner of the New Jersey Department of Environmental Protection, and the Administrator of the New Jersey Spill Compensation Fund v. PPG Industries, Inc., Civil Action No. 2:24-04771.

The United States filed this lawsuit under the Comprehensive Environmental Response, Compensation, and Liability Act (“CERCLA”), on behalf of the U.S. Environmental Protection Agency (“EPA”). The New Jersey Department of Environmental Protection, the Commissioner of the New Jersey Department of Environmental Protection, and the Administrator of the New Jersey Spill Compensation Fund (collectively, “NJDEP”) are co-plaintiffs. PPG Industries, Inc. (“PPG”) is the defendant named in the complaint. The complaint seeks injunctive relief and reimbursement of response costs in connection with the Riverside Industrial Park Superfund Site (“Site”) located in Newark, New Jersey.

Under the proposed consent decree, PPG is required to (a) design and implement the components of the remedy selected for the Site in EPA's September 28, 2021, Record of Decision that relate to waste material, sewer water, soil gas, and soil/fill material, and (b) perform groundwater monitoring and implement institutional controls (the “Work”). The estimated cost of the Work is about $15 million. PPG will also reimburse the United States $2,883,120 and NJDEP $116,880 for past costs relating to the Site and will pay the United States and NJDEP for future response costs they incur relating to the Work. In return, the United States agrees not to sue or take administrative action under sections 106 and 107 of CERCLA against PPG for the Work, EPA past costs relating to the Site, and future response costs EPA will incur relating to the Work. NJDEP also agrees not to sue or take administrative action against PPG for NJDEP past costs relating to the Site and for future response costs NJDEP will incur relating to the Work.

The publication of this notice opens a period for public comment on the proposed consent decree. Comments should be addressed to the Assistant Attorney General, Environment and Natural Resources Division, and should refer to United States and NJDEP v. PPG Industries, Inc, D.J. Ref. No. 90-11-2-12543. All comments must be submitted no later than sixty (60) days after the publication date of this notice. This notice is meant to replace a notice published in the Federal Register on April 16, 2024, which provided a thirty-day public comment period, and extends the public comment period on the proposed consent decree from thirty days to sixty days. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the proposed consent decree may be examined and downloaded at this Justice Department website: https://www.justice.gov/enrd/consent-decrees. If you require assistance accessing the proposed consent decree, you may request assistance by email or by mail to the addresses provided above for submitting comments.

Henry S. Friedman,
Assistant Section Chief, Environmental Enforcement Section, Environment and Natural Resources Division.

[FR Doc. 2024-08531 Filed 4-19-24; 8:45 am]

BILLING CODE 4410-15-P